DEPARTMENT OF ENERGY

Federal Energy Regulatory Commission

[Docket No. RP00-274-001]

Reliant Energy Gas Transmission Company; Notice of Proposed Changes in FERC Gas Tariff

July 14, 2000.

Take notice that on July 11, 2000, Reliant Energy Gas Transmission Company (REGT), tendered for filing to become part of its FERC Gas Tariff, Fifth Revised Volume No. 1, the following tariff sheets, with an effective date of August 1, 2000.

Second Revised Sheet No. 1

First Revised Sheet No. 59

Original Sheet No. 70

Original Sheet No. 71

Original Sheet No. 72

Original Sheet No. 73

Original Sheet No. 74

Original Sheet No. 75

Original Sheet No. 76

First Revised Sheet No. 286

Second Revised Sheet No. 289

First Revised Sheet No. 290

REGT states that the filing is being made in compliance with the Commission's order issued June 28, 2000 in Docket No. RP00-274-000 (Order).

REGT states that the filing implements the pro forma tariff sheets applicable to Rate Schedule ANS (AutoNom Service). REGT also states that in compliance with the Order these tariff sheets incorporate an alternative provision affording the use of an AutoNom Service to split-connect end users as well as single-connect end users.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-222 for assistance).

Lindwood A. Watson, Jr.,
Acting Secretary.

[FR Doc. 00-18307 Filed 7-19-00; 8:45 am]

BILLING CODE 6717-01-M